DEPARTMENT OF TRANSPORTATION

Federal Aviation Administration

14 CFR Part 71

[Docket No. FAA-2006-24781; Airspace Docket No. 06-AWP-8]

Modification of Class E Airspace; Half Moon Bay, CA

AGENCY: Federal Aviation Administration (FAA), DOT.

ACTION: Final rule.

SUMMARY: This action modifies the Class E airspace area at Half Moon Bay, CA. The establishment of an Area Navigation (RNAV) Global Positioning System (GPS) Z Instrument Approach Procedure (IAP) to Runway (RWY) 30 to Half Moon Bay Airport, Half Moon Bay, CA has made this action necessary. Additional controlled airspace extending upward from 700 feet or more above the surface of the earth is needed to contain aircraft executing this RNAV (GPS) ZIAP to RWY 30 at Half Moon Bay Airport. The intended effect of this action is to provide adequate controlled airspace for Instrument Flight Rules operations at Half Moon Bay Airport, Half Moon Bay, CA

EFFECTIVE DATE: 0901 UTC September 28, 2006. The Director of the Federal Register approves this incorporation by reference action under 1 CFR part 51, subject to the annual revision of FAA Order 7400.9 and publication of conforming amendments.

FOR FURTHER INFORMATION CONTACT: The Office of the Regional Western Terminal Operations, Federal Aviation Administration, OF 15000 Aviation Boulevard, Lawndale, California 90261, telephone (310) 725-6502.

SUPPLEMENTARY INFORMATION:

History

On June 14, 2006, the FAA proposed to amend 14 CFR part 71 by modifying the Class E airspace area at Half Moon Bay, CA (06 FR 34296). Additional controlled airspace extending upward from 700 feet or more above the surface is needed to contain aircraft executing the RNAV (GPS) Z IAP RWY 30 to Half Moon Bay Airport. This action will provide adequate controlled airspace for aircraft executing the RNAV (GPS) Z IAP RWY 30 to Half Moon Bay Airport, Half Moon Bay, CA.

Interested parties were invited to participate in this rulemaking proceeding by submitting written comments on the proposal to the FAA. No comments to the proposal were received. Class E airspace designations for airspace extending from 700 feet or more above the surface of the earth are published in paragraph 6005 of FAA Order 7400.9N, dated September 1, 2005, and effective September 15, 2005, which is incorporated by reference in 14 CFR 71.1. The Class E airspace designation listed in this document will be published subsequently in the Order.

The Rule

This amendment to 14 CFR part 71 modifies the Class E airspace area at Half Moon Bay, CA. The establishment of a RNAV (GPS) Z IAP RWY 30 to Half Moon Bay Airport has made this action necessary. The effect of this action will provide adequate airspace for aircraft executing the RNAV (GPS) Z IAP RWY 30 to Half Moon Bay Airport, Half Moon Bay, CA.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the

Federal Aviation Administration amends 14 CFR part 71 as follows:

PART 71—DESIGNATION OF CLASS A, CLASS B, CLASS C, CLASS D, AND CLASS E AIRSPACE AREAS; AIRWAYS, ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9N, Airspace Designations and Reporting Points, dated September 1, 2005, and effective September 15, 2005, is amended as follows:

Paragraph 6005 Class E airspace areas extending upward from 700 feet or more above the surface of the earth.

* * * * *

AWP CA E5 Half Moon Bay, CA [Amended]

Half Moon Bay Airport

(Lat. 37°30′48″ N, long. 122°30′04″ W)

That airspace extending upward from 700 feet above the surface, bounded on the north by lat. 37°35′00″ N, on the east by long. 122°14′00″ W, on the south by lat. 37°18′00″ N, on the west by long. 122°35′04″ W.

* * * * *

Issued in Los Angeles, California, on August 7, 2006.
Leonard A. Mobley,
Acting Area Director, Western Terminal Operations.

[FR Doc. 06-7062 Filed 8-22-06; 8:45 am]

BILLING CODE 4910-13-M